DEPARTMENT OF HEALTH AND HUMAN SERVICES

Centers for Disease Control and Prevention (CDC)

Advisory Board on Radiation and Worker Health (ABRWH or Advisory Board), National Institute for Occupational Safety and Health (NIOSH)

The meeting scheduled to convene on February 28-29, 2012 was published in the Federal Register on February 16, 2012, Volume 77, Number 32, Pages 9254-9255. This notice was put on display for 12 days in advance of the meeting instead of the 15 calendar days required in accordance with section 10(a)(2) of the Federal Advisory Committee Act (Pub. L. 92-463), and pursuant to the requirements of 42 CFR 83.15(a).

CONTACT PERSON FOR MORE INFORMATION: Theodore Katz, M.P.A., Executive Secretary, NIOSH, CDC, 1600 Clifton Road, NE., MS E-20, Atlanta, Georgia 30333, Telephone: (513) 533-6800, toll free: 1-800-CDC-INFO, email: dcas@cdc.gov.

The Director, Management Analysis and Services Office, has been delegated the authority to sign Federal Register notices pertaining to announcements of meetings and other committee management activities, for both the Centers for Disease Control and Prevention and the Agency for Toxic Substances and Disease Registry.

Dated: February 17, 2012.
Elaine L. Baker,
Director, Management Analysis and Services Office, Centers for Disease Control and Prevention.

[FR Doc. 2012-4569 Filed 2-24-12; 8:45 am]

BILLING CODE 4163-18-P